DEPARTMENT OF STATE

[Delegation of Authority No. 316]

Delegation From the Secretary of Certain Certification Functions in Maritime Law Enforcement to the Assistant Secretary for International Narcotics and Law Enforcement Affairs

By virtue of the authority vested in the Secretary of State, including the authority of section 1 of the State Department Basic Authorities Act, as amended (22 U.S.C. 2651a), I hereby delegate to the Assistant Secretary for International Narcotics and Law Enforcement Affairs, the certification functions of 46 U.S.C. 70502(d)(2) and 18 U.S.C. 2237(d).

Notwithstanding this delegation of authority, the Secretary or the Deputy Secretary may exercise any function or authority covered by this delegation. The functions delegated herein may be re-delegated.

Any reference in this delegation of authority to any act, order, determination, delegation of authority, regulation, or procedure shall be deemed to be a reference to such act, order, determination, delegation of authority, regulation or procedure as amended from time to time.

Delegation of Authority Number 164, dated May 23, 1987, is hereby superseded.

This Delegation of Authority shall be published in the Federal Register.

Dated: September 2, 2008.
Condoleezza Rice,
Secretary of State, Department of State.

[FR Doc. E8-22409 Filed 9-23-08; 8:45 am]

BILLING CODE 4710-17-P